CONSUMER PRODUCT SAFETY COMMISSION

Sunshine Act Meeting Notice

TIME AND DATE: Wednesday, October 30, 2013, 10 a.m.-12 p.m.

PLACE: Room 420, Bethesda Towers, 4330 East West Highway, Bethesda, Maryland.

STATUS: Commission Meeting—Open to the Public.

Matters To Be Considered

Briefing: FY 2014 Operating Plan.

A live Web cast of the meeting can be viewed at www.cpsc.gov/live. For a recorded message containing the latest agenda information, call (301) 504-7948.

Contact Person For More Information: Todd A. Stevenson, Office of the Secretary, U.S. Consumer Product Safety Commission, 4330 East West Highway, Bethesda, MD 20814, (301) 504-7923.

Dated: October 23, 2013.
Todd A. Stevenson,
Secretary.

[FR Doc. 2013-25387 Filed 10-23-13; 4:15 pm]

BILLING CODE 6355-01-P